DEPARTMENT OF COMMERCE

National Oceanic and Atmospheric Administration

Proposed Information Collection; Comment Request; Alaska Community Quota Entity (CQE) Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 10, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Gabrielle Aberle, 907-586-7228.

SUPPLEMENTARY INFORMATION:

I. Abstract

This request is for extension of a currently approved information collection.

The Community Quota Entity (CQE) Program provides eligible communities in Alaska the means for starting or supporting commercial fisheries activities that will result in an ongoing, regionally based, fisheries-related economy. Under the Community Quota Entity Program, 46 eligible communities are authorized to form nonprofit entities called CQEs to participate in certain Federal limited access privilege programs.

Under the Individual Fishing Quota (IFQ) CQE Program, CQEs may purchase commercial halibut and sablefish quota share (QS) for lease to residents of the eligible community. Under the Charter Halibut Limited Access Program, CQEs may request community charter halibut permits (CHPs) for use in southeast Alaska and the central Gulf of Alaska. Under the License Limitation Program (LLP), CQEs may request non-trawl groundfish LLP licenses endorsed for Pacific cod in the central or western Gulf of Alaska.

This information collection contains the applications and reporting requirements for CQEs. This collection contains applications used by a nonprofit corporation to become a CQE; by CQEs to receive nontrawl groundfish LLP licenses and CHP permits; by CQEs to transfer or receive IFQ QS; by CQEs to transfer IFQ to an eligible community resident or non-resident; and by CQEs to transfer between commercial halibut IFQ and halibut guided angler fish (GAF). In addition, this collection contains two reporting requirements: An annual report and an authorization letter. Annually each CQE must submit a report describing its business operations and fishing activities for each eligible community it represents. CQEs requesting LLP groundfish licenses must annually submit an authorization letter that assigns each community LLP license to a user and vessel.

II. Method of Collection

The applications are available as fillable PDFs on the NMFS Alaska Region website at https://alaskafisheries.noaa.gov/fisheries-applications that may be downloaded, printed, faxed or mailed to NMFS. The CQE annual report must be mailed. The CQE authorization letter may be submitted as an attachment to an email.

III. Data

OMB Control Number: 0648-0665.

Form Number(s): None.

Type of Review: Regular submission (extension of a current information collection).

Affected Public: Not-for-profit institutions; Individuals or households.

Estimated Number of Respondents: 75.

Estimated Time Per Response: 200 hours for Application for a Non-profit Corporation to be Designated as a CQE; 2 hours each for Application to transfer QS IFQ to or from a CQE, Application for CQE to Transfer IFQ to an Eligible Community Resident or Non-resident, and Application for Transfer between IFQ and GAF by a CQE; 20 hours for Application for a CQE to Receive a Nontrawl Groundfish LLP License; 40 hours for CQE Annual Report; 1 hour each for Application for Community Charter Halibut Permit and CQE LLP Authorization Letter.

Estimated Total Annual Burden Hours: 1,884 hours.

Estimated Total Annual Cost to Public: $264 in recordkeeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 3, 2018.
Sarah Brabson,
NOAA PRA Clearance Officer.

[FR Doc. 2018-21815 Filed 10-5-18; 8:45 am]

BILLING CODE 3510-12-P